DEPARTMENT OF THE INTERIOR

Bureau of Land Management

[UT-080-1610-DH]

Environmental Impact Statement; Vernal Resource Management Plan, Utah

AGENCY: Bureau of Land Management, Interior.

ACTION: Notice of intent to plan, prepare an environmental impact statement, and call for information. The public is invited to nominate potential areas of critical environmental concern (ACEC) and river segments for wild and scenic river consideration during the planning process.

SUMMARY: Notice is hereby given that the Bureau of Land Management (BLM), Vernal Field Office, Utah, is initiating a planning effort to prepare the Vernal Resource Management Plan (RMP). Sections 201 and 202 of the Federal Land Policy and Management Act of 1976 (FLPMA, 43 U.S.C. 1711) and the regulations in 43 CFR 1600 direct this planning effort. Involved is preparation of an Environmental Impact Statement (EIS). Upon completion, the Vernal RMP will replace the existing Book Cliffs and Diamond Mountain RMPs. The Vernal RMP will establish land use management policy for multiple resource uses on approximately 1.8 million acres of public land and 2.1 million acres of federal mineral resources in the Vernal Field Office.

Scoping information on potential issues and nominations for the Vernal RMP may be submitted at this time. Other public participation activities will be announced in the local news media, or in letters sent to interested and potentially affected parties. Persons desiring to participate in the scoping and issue identification process for the RMP, and that would like to be placed on mailing lists, must notify the Vernal Field Office at the address listed below, or by calling (435) 781-4400. Another Federal Register Notice will be published identifying the dates and locations of future scoping meetings, which are anticipated to be held in the fall of 2001.

Freedom of Information Act Considerations: Public comments submitted for this planning effort, including names and street addresses of respondents, will be available for public review at the Vernal Field Office during regular business hours (7:45 a.m. to 4:30 p.m.), Monday through Friday, except holidays. All submissions from organizations or businesses, and from individuals identifying themselves as representatives or officials of organizations or businesses, will be made available for public inspection in their entirety. Individual respondents may request confidentiality. If you wish to withhold your name or address from public review or from disclosure under the Freedom of Information Act, you must state this prominently at the beginning of your comments. Such requests will be honored to the extent allowed by law.

ADDRESSES: Please submit scoping information and nominations to: Vernal Field Office, Bureau of Land Management, Attn: David E. Howell, 170 South, 500 East, Vernal, Utah 84078.

FOR FURTHER INFORMATION CONTACT: Resource Management Plan Project Manager, Vernal Field Office, Vernal, Utah, (435) 781-4400.

SUPPLEMENTARY INFORMATION: The planning area will include all of the public land and federal mineral ownership managed by the Vernal Field Office, in Daggett, Duchesne, and Uintah Counties in northeastern Utah, and about 3,000 acres in Grand County. The planning area will encompass the public lands currently managed under the Diamond Mountain and Book Cliffs RMPs. This area includes approximately 1.8 million acres of BLM administered surface lands and 2.1 million acres of federal mineral lands under federal, state, private, and Ute Tribal surface in the three county area.

A list of preliminary issues that could be addressed during development of the Vernal RMP include, but is not limited to, the following: (1) Identification and management of summer and winter ranges for mule deer, (2) forage competition between wildlife and livestock, (3) the cumulative effect of land uses and human activities on threatened, endangered or sensitive species and their habitats, including sage grouse, ferruginous hawks and other raptors, (4) off highway vehicle (OHV) management, (5) revision of Reasonable Foreseeable Development (RFD) scenarios for oil and gas development, (6) concerns about water and air quality, (7) sensitive fish species in the White and Green Rivers as components of the Colorado River System, (8) fire management opportunities and potential effects on vegetative communities, (9) Area of Critical Environmental Concern (ACEC) considerations, (10) Wild and Scenic River considerations, that include making determinations on river eligibility, suitability, and tentative classification, and (11) Wilderness study areas (WSAs). The preliminary list of issues is not final and may be added to and refined through the public participation process.

As part of the land use planning process, the Federal Land Management Policy Act mandates that the Bureau of Land Management give priority to the designation and protection of ACECs in developing and revising land use plans. As part of the Vernal RMP planning effort, the Bureau of Land Management will determine what areas, if any, should be designated as Areas of Critical Environmental Concern. To be considered as a potential ACEC, and analyzed in a management plan alternative, an area must meet the criteria of relevance and importance as established and defined in 43 CFR 1610.7-2, Designations of Areas of Critical Environmental Concern. An area meets “relevance” criteria if it contains one or more of the following: (1) Significant historic, cultural, or scenic values, (2) a fish and wildlife resource (including sensitive species, relative habitat, or habitat essential for maintaining species diversity), (3) natural processes or systems (including rare, endemic, relict plants or communities, and riparian areas), and (4) natural hazards such as severe avalanche, flooding, seismic activity, etc.

The “importance” criteria are used to insure that a specific resource or value, process or hazard has substantial significance and value. Importance can be characterized as follows: (1) has more than local significance having special worth, (2) has qualities or circumstances that make it fragile, sensitive, rare, irreplaceable, unique, endangered or threatened, meaningful or distinctive, (3) has been recognized as warranting protection in order to satisfy national priorities or to carry out the mandates of the Federal Land Policy Management Act, and (4) has qualities which warrant concern to satisfy public welfare and safety needs.

As a result of a previous planning effort for the Diamond Mountain Resource Management Plan several nominations have already been recorded, evaluated, and designated as ACECs. It is proposed that these areas be brought forward into the Draft Vernal Resource Management Plan/Draft EIS. Potential “relevance” and “importance” values, and potential issues, associated with the designated areas are as follows:

(1) Browns Park ACEC Complex, located in Township 1 and 2 North, Range 23, 24 and 25 East, encompassing 55,700 acres; To protect and enhance crucial deer winter range, outstanding scenic, cultural, riparian, fisheries, and special status species resource values.

(2) Lears Canyon ACEC, located in Township 11 South, Range 13 East, encompassing 1,400 acres; To retain the areas present natural douglas fir/mountain browse and pinion-juniper communities as a comparison or control area and to provide/set aside an area in a late to climax ecological stage.

(3) Lower Green River ACEC, located in Township 9, 10 and 11 South, Range 18, and 19 East, encompassing 7,900 acres; To enhance and protect the delicate riparian community adjacent to the Green River for special status fish, bird, and plant species while maintaining the wild and scenic river qualities of this river.

(4) Nine Mile Canyon ACEC, located in Township 11 South, and Range 14, 15, 16, and 17 East; encompassing 50,600 acres; To protect and enhance the cultural and special status plant species values of the canyon while enhancing its scenic, recreation, and wildlife resource values.

(5) Pariette Wetlands ACEC, located in Township 8, and 9 South, and Range 18, and 19 East, encompassing 11,600 acres; To enhance and protect the wetlands community and associated habitat adjacent to Pariette and Castle Peak Washes, ensuring continued waterfowl production and no long-term deterioration of the water quality in Pariette Wash. Meet management objectives of the final recovery plans for the special status species associated with the area.

(6) Red Creek Watershed ACEC, located in Township 2, and 3 North, and Range 23, 24, and 25 East, encompassing 24,600 acres; To continue the reduction of sedimentation into Red Creek and the Green River by stabilizing channels and streambanks and maintaining or increasing vegetative cover throughout the watershed to enhance wildlife habitat.

(7) Red Mountain-Dry Fork ACEC Complex, located in Township 2, and 3 South, and Range 20, 21, and 22 East, encompassing 25,800 acres; To protect cultural sites eligible for listing on the National Register of Historic Places; protect significant paleontological sites; protect relict vegetation communities; enhance wildlife habitat, municipal watersheds, riparian, and scenic values.

In addition to the above areas, the BLM is requesting nominations for areas that the public believes meet ACEC criteria. All such nominations will receive a preliminary evaluation by an interdisciplinary team to determine if the area meets “relevance” and “importance” criteria.

Additional public nominations are also being sought for those rivers which may be eligible for inclusion into the National Wild and Scenic River System. In order to be considered, the body of water must be free flowing and contain outstandingly remarkable values. A segment can be determined free flowing if it is a flowing body of water, estuary, or section, portion, or tributary thereof including, rivers, streams, creeks, runs, kills, rills, and small lakes. The river can be any size and must be existing or flowing in natural conditions without major modification. All nominations should be accompanied by detailed maps, descriptions of the river segment, and river related values. Those values determined to be outstandingly remarkable are: scenic, recreational, geologic, fish and wildlife habitat or populations, cultural, historic, hydrologic, ecologic/biologic diversity, paleontologic, botanic, or scientific study opportunities. Rivers are also tentatively classified as wild, scenic or recreational as part of the planning process.

The following are nominations that BLM has received from the public to date:

Green River Basin:

Ashley Creek, 1½ miles from the Ashley National Forest Boundary to the water treatment plant—recommended classification: Wild,

Green River, 46 miles from Flaming Gorge Dam to the Ladore Ranger Station—recommended classification: Scenic,

Green River, 79 miles from Split Mountain Campground to boundary of the Uintah and Ouray Indian Reservation—recommended classification: Recreational,

Green River, 25 miles from the boundary of the Uintah and Ouray Indian Reservation to Sand Wash Ranger Station—recommended classification: Scenic:

Green River, 76 miles from the Sand Wash Ranger Station to Nefertiti Rock—recommended classification: Wild,

White River, 23 miles from the Colorado Border to T. 15 S. R. 23 E. Sec. 24,—recommended classification: Recreational,

White River, 21 miles from T. 15 S. R. 23 E. Sec. 24, to the Uintah and Ouray Indian Reservation Boundary—recommended classification: Wild.

The information provided with additional nominations will be carefully considered. Preliminary findings of river eligibility and tentative classification will be made available for public review and comment. Only then will the determination be made as to which rivers will be considered further in the Vernal Field Office Resource Management Plan.

Preliminary Planning Criteria identified to guide resolution of the issues that will be considered in the RMP revision are as follows:

(1) The plan will recognize the existence of valid existing rights,

(2) Lands covered in the RMP will be public lands, which include split estate lands, managed by BLM. Decisions on lands not managed by BLM will not be made in the RMP,

(3) The BLM will use a collaborative and multi-jurisdictional approach, where possible, to jointly determine the desired future condition of Public Lands,

(4) The BLM will make all possible attempts to ensure that its management prescriptions and planning actions are as complimentary as possible with other planning jurisdictions, within the boundaries described by law and policy,

(5) The BLM will consider the management prescriptions on adjoining lands to attempt to minimize inconsistent management on lands covered by this planning effort. To the extent possible, BLM will coordinate inventories, planning, and management programs with other Federal, State, Tribal, and local governments and agencies,

(6) Management prescriptions will focus on the relative values of resources and not the combination of uses that will give the greatest economic return or economic output, and

(7) To the extent possible the BLM will use current scientific information, research, new technologies and the results of resource assessments, monitoring and coordination to determine appropriate local, and regional management strategies that will enhance or restore impaired ecosystems.

Complete records of all phases of the planning process will be available for public review at the Vernal Field Office throughout this planning effort.

This notice announces the beginning of scoping. The Vernal Field Office is seeking public involvement in the early stages of this planning effort to enhance collaboration. If you have information or concerns you would like to share, including ideas or opportunities, that could enhance data collection, inventories, or formulation of issues that could be addressed in the plan, please submit them to the above address. Comments will be accepted and considered until the alternatives to be analyzed in the plan are finalized.

Alternatives will be developed and analyzed to resolve the issues that are identified during the scoping process. A Draft RMP and Draft EIS will be published and made available for public review. Comments made on the Draft RMP will be addressed in a Proposed RMP and Final EIS.

Currently, there is one proposed RMP amendment being considered for the Book Cliffs RMP that could result in decisions to amend the RMP. This is an independent planning effort and will take place concurrently with the new planning effort. Any decisions made during the amendment process will be carried forward and will not affect the RMP revision process announced in this notice.

Sally Wisely,
Utah State Director.

[FR Doc. 01-6067 Filed 3-9-01; 8:45 am]

BILLING CODE 4310-11-P